DEPARTMENT OF LABOR

Employment and Training Administration

[TA-W-64,360]

Meadwestvaco Corporation, Consumer and Office Products Division, Enfield, CT; Notice of Affirmative Determination Regarding Application for Reconsideration

By application dated April 1, 2009, the petitioner requested administrative reconsideration of the negative determination regarding workers' eligibility to apply for Trade Adjustment Assistance (TAA) and Alternative Trade Adjustment Assistance (ATAA) applicable to workers and former workers of the subject firm. The determination was issued on February 5, 2009. The Notice of Determination was published in the Federal Register on March 3, 2009 (74 FR 9283).

The initial investigation resulted in a negative determination based on the finding that imports of envelopes did not contribute importantly to worker separations at the subject firm and no shift in production to a foreign country occurred.

In the request for reconsideration, the petitioner provided additional information regarding a shift in production of envelopes to Mexico and alleged that the customers might have increased imports of envelopes in the relevant period.

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 7th day of April 2009.
Elliott S. Kushner,
Certifying Officer, Division of Trade Adjustment Assistance.

[FR Doc. E9-8696 Filed 4-15-09; 8:45 am]

BILLING CODE 4510-FN-P